DEPARTMENT OF DEFENSE

Office of the Secretary

[Docket ID DOD-2011-OS-0091]

Privacy Act of 1974; System of Records

AGENCY: Office of the Secretary of Defense, Department of Defense (DoD).

ACTION: Notice To Add a System of Records.

SUMMARY: The Office of the Secretary of Defense proposes to add a system of records to its inventory of record systems subject to the Privacy Act of 1974 (5 U.S.C. 552a), as amended.

DATES: This proposed action would be effective without further notice on September 16, 2011 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (703) 588-6830.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on August 11, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 12, 2011.
Aaron Siegel,
Alternate OSD Federal Register Liaison Officer, Department of Defense.

DHA 24

System Name:

Defense and Veterans Eye Injury and Vision Registry (DVEIVR).

System location:

Primary location: Deputy Assistant Secretary of Defense, Force Health Protection and Readiness, Four Skyline Place, 5113 Leesburg Pike, Suite 901, Falls Church, VA 22041-3204.

Secondary locations: Department of Defense (DoD)/Department of Veterans Affairs (VA) Vision Center of Excellence, 2900 Crystal Drive, 2nd Floor, Arlington, VA 22208-3567, or the contractors under contract to TRICARE. For a complete listing of all system locations, write to the system manager.

Categories of individuals covered by the system:

Members of the Armed Forces who, while serving on active duty on or after September 11, 2001, incurred a significant eye injury, including such an individual with visual dysfunction related to traumatic brain injury, with an eye injury and a visual acuity in the injured eye of 20/200 or less, or with a loss of peripheral vision resulting in 20 degrees or less of visual field in the injured eye.

Categories of records in the system:

Individual's full name, Social Security Number (SSN), DoD Identification (ID) Number (DoD ID number), date of birth, gender, other names used, mailing address, email address, telephone numbers (home and/or cell), marital status, and race or ethnicity; alternate contact or personal representative name and phone number; an individual's service and employment information, including rank, service branch, job category, and disability information; and an individual's medical information, including information on diagnosis, treatment, surgical interventions or other operative procedures, follow up services and treatment, visual outcomes, and records with respect to on-going eye care and visual rehabilitation benefits and services received, whether treatments, benefits and services were provided on an inpatient or outpatient basis, inpatient service dates, outpatient visit dates, and information on where eye or traumatic brain injury occurred.

Authority for maintenance of the system:

10 U.S.C. 1071 note, Centers of Excellence in the Prevention, Diagnosis, Mitigation, Treatment, and Rehabilitation of Military Eye Injuries; 10 U.S.C. chapter 55, Medical and Dental Care; 45 CFR Part 160, Health and Human Services; 45 CFR Part 164, General Administrative Requirements and Security and Privacy; and E.O. 9397 (SSN), as amended.

Purposes:

To establish a registry of information for tracking the diagnosis, surgical intervention or other operative procedure, other treatment, and follow up for cases of significant eye injury incurred by a member of the Armed Forces while serving on active duty.

To ensure the electronic exchange of information in the registry with the VA, and enable the VA to access the registry and add information pertaining to additional treatments or surgical procedures and outcomes for veterans entered in the registry and who received treatment through the Veterans Health Administration (VHA).

To encourage and facilitate the conduct of studies, and the development of best practices and clinical education, on eye injuries incurred by members of the Armed Forces.

To support a cooperative DoD and VA program for members of the Armed Forces and veterans with eye injuries and post traumatic eye syndrome associated with traumatic brain injury at military medical treatment facilities and VA medical centers for vision screening, diagnosis, rehabilitative management, and vision research, including visual dysfunction related to traumatic brain injury.

Also used as a management tool for statistical analysis, tracking, reporting, evaluating program effectiveness and conducting research.

Routine uses of records maintained in the system, including categories of users and the purposes of such uses:

In addition to those disclosures generally permitted under 5 U.S.C. 552a(b) of the Privacy Act of 1974, as amended, these records may specifically be disclosed outside the DoD as a routine use pursuant to 5 U.S.C. 552a(b)(3) as follows:

To institutions of higher education, and other appropriate public and private entities (including international entities) to encourage and facilitate the conduct of research and the development of best practices and clinical education on eye injuries incurred by members of the Armed Forces.

To the VA for the purpose of ensuring the electronic exchange of information in the registry and enabling the VA to access the registry and add information pertaining to additional treatments or surgical procedures and outcomes for veterans entered in the registry and who received treatment through the VHA.

To VA and individual providers of care, including non-governmental care providers for the purpose of analysis of continued case management related to significant eye injury or loss of visual acuity.

To the VA Blind Rehabilitation Service and to the eye care services of the VHA for the purposes of analysis of the coordination of the provision of ongoing eye care and visual rehabilitation benefits and services by the VA after separation or release from the Armed Forces.

To the VA for the purpose of encouraging and facilitating the conduct of studies, and the development of best practices and clinical education, on eye injuries incurred by members of the Armed Forces.

To the VA to ensure coordination of ongoing eye care and visual rehabilitation benefits and services by the VA both before and after separation of individuals from the Armed Forces.

The DoD `Blanket Routine Uses' set forth at the beginning of the Office of the Secretary of Defense (OSD) compilation of systems of records notices apply to this system.

Note 1: This system of records contains individually identifiable health information. The DoD Health Information Privacy Regulation (DoD 6025.18-R), issued pursuant to the Health Insurance Portability and Accountability Act of 1996, applies to most such health information. DoD 6025.18-R may place additional procedural requirements on the uses and disclosures of such information beyond those found in the Privacy Act of 1974, as amended, or mentioned in this system of records notice.

Policies and practices for storing, retrieving, accessing, retaining, and disposing of records in the system:

Storage:

Electronic storage media.

Retrievability:

Records may be retrieved by the individual's name, SSN, and/or DoD ID number.

Safeguards:

Physical access to system locations is restricted by cipher locks, visitor escort, access rosters, and photo identification. Adequate locks are on doors and server components will be secured in locked computer room(s) with limited access. Each system end user device will be protected within a locked storage container, room, or building outside of normal business hours.

All visitors and other persons who require access to facilities that house servers and other network devices supporting the system but who do not have authorization for access will be escorted by appropriately screened/cleared personnel at all times.

Approved system users will have role-based access to the system and, as appropriate, will be provided role-based access to query the system for single patient look-up and reporting purposes. On a system level, all access will be tracked to ensure that only appropriate and approved personnel have access to personally identifiable information and protected health information. The system provides two-factor authentication, using either a Common Access Card (CAC) and personal identification number or a unique logon identification and password. Passwords must currently be renewed every sixty (60) days. Authorized personnel must have appropriate Information Assurance training, Health Insurance Portability and Accountability Act training, and Privacy Act of 1974 training.

Retention and disposal:

Disposition pending (treat records as permanent until the National Archives and Records Administration approves the proposed retention and disposition).

System manager(s) and address:

Director of Deployment of Systems, Force Health Protection and Readiness, Four Skyline Place, 5113 Leesburg Pike, Suite 901, Falls Church, VA 22041-3204.

Notification procedure:

Individuals seeking to determine whether information about themselves is contained in this system of records should address written inquiries to the TRICARE Management Activity, Department of Defense, Attn: TMA Privacy Officer, Skyline 5, Suite 810, 5111 Leesburg Pike, Falls Church, VA 22041-3206.

Requests should contain the individual's full name, SSN, and/or DoD ID number.

Record access procedures:

Individuals seeking access to information about themselves contained in this system of records should address written inquiries to the TRICARE Management Activity, Attention: Freedom of Information Act Requester Service Center, 16401 East Centretech Parkway, Aurora, CO 80011-9066.

Written requests must contain the individual's full name, SSN and/or DoD ID number, current address, telephone number, the name and number of this system of records notice and be signed.

Contesting record procedures:

The OSD rules for accessing records, contesting contents, and appealing initial agency determinations, are published in OSD Administrative Instruction 81; 32 CFR part 311; or may be obtained from the system manager.

Record source categories:

The Defense Enrollment Eligibility Reporting System, medical treatment records maintained at DoD medical treatment facilities, VA medical care facilities, and facilities contracted by DoD and/or VA to perform medical care, VA Eye Injury Data Store, the Clinical Data Repository, AHLTA, Theater Medical Data Store, Joint Theater Trauma Registry Combat Trauma Registry, and VA Eye Data Store.

Exemptions claimed for the system:

None.

[FR Doc. 2011-20914 Filed 8-16-11; 8:45 am]

BILLING CODE 5001-06-P